DEPARTMENT OF TRANSPORTATION

Federal Aviation Administration

[Docket No. FAA-2001-9119]

Notice of Public Meeting

AGENCY: Federal Aviation Administration (FAA), DOT.

ACTION: Notice of public meeting.

SUMMARY: The FAA plans to convene a public meeting to solicit public views and information regarding liability and risk-sharing for commercial space launch and reentry activities. In addition to the public meeting, the FAA announces an on-line public forum on the Internet to solicit comments and information from the public. Public views obtained at the meeting and from the on-line forum will be included in a report to Congress on the appropriateness and effectiveness of current risk-sharing arrangements under law, and the need to continue or modify laws governing liability risk-sharing for commercial launches and reentries beyond December 31, 2004.

DATES: The public meeting will begin on April 25, 2001, at 9 a.m. and conclude for the day at 4:30 p.m. If necessary, the meeting will resume on April 26, 2001, at 9 a.m. and may continue through 4:30 p.m. A two-week on-line public forum will begin on April 27, 2001, at 9 a.m. EST and end on May 11, 2001, at 4:30 p.m. EST. Written comments may also be submitted to the docket through May 11, 2001. Comments submitted to the docket after May 11 will be considered and included in the report to the extent practicable; however, the FAA encourages timely submission of comments to facilitate preparation of the report.

ADDRESSES: The meeting will take place in the FAA Auditorium, located at 800 Independence Avenue, SW., 3rd floor, Washington, DC 20591. The on-line public forum can be reached by clicking the “On-Line Public Forum” hyperlink on the Associate Administrator for Commercial Space Transportation's (AST) Internet home page, http://ast.faa.gov. Persons unable to participate in either the public meeting or the on-line public forum may mail or deliver views to the U.S. Department of Transportation Dockets, Docket No. FAA-2001-9119, 400 Seventh Street, SW., Washington, DC, 20590. The FAA requests two copies of any written comments. Comments may also be submitted to the docket electronically by sending them to the Documents Management Systems (DMS) at the following Internet address: http://dms.dot.gov/. Proprietary data should be marked as such and should not be submitted electronically. Comments to the docket should be submitted by May 11, 2001. Written views, as well as a transcript of the public meeting, may be examined in Room PL 401 at the U.S. Department of Transportation, 400 Seventh Street, SW., Washington, DC, 20590, between 10 a.m. and 5 p.m. weekdays except Federal holidays.

FOR FURTHER INFORMATION CONTACT: Ms Esta M. Rosenberg, Senior Attorney-Advisory, Regulations Division, Office of the Chief Counsel, Federal Aviation Administration, U.S. Department of Transportation (202) 366-9320, or Mr. Ronald K. Gress, Manager, Licensing and Safety Division, Associate Administrator for Commercial Space Transportation, Federal Aviation Administration, U.S. Department of Transportation (202) 267-7985.

SUPPLEMENTARY INFORMATION:

Background

Congress has directed the Secretary of Transportation to study the liability risk-sharing regime currently applicable to U.S. commercial space transportation and recommend any appropriate modifications as part of a comprehensive report. The study mandated by the Commercial Space Transportation Competitiveness Act of 2000 (referred to in this Notice as the Space Competitiveness Act), Public Law 106-405, covers a variety of issues associated with liability risk-sharing for commercial space transportation. Government agency and public views will be presented as part of the final report to Congress.

A Notice issued in the Federal Register on March 19, 2001, provides background information concerning the liability risk-sharing regime applicable to commercial space transportation under current law. 66 FR 15521-15523, March 19, 2001. The Notice outlines report requirements and the specific areas of study and analysis identified in the Space Competitiveness Act. It can be viewed at the AST Internet home page, http://ast.faa.gov.

The on-line public forum will allow electronic discussion of the issues identified for analysis by the Space Competitiveness Act. Through the Internet, a large cross-section of the interested public will be able to share views and information with each other and the FAA, and assist the FAA in compiling the range of perspectives concerning an appropriate risk-sharing regime for commercial space transportation. According to an AST report issued February 2001, “The Economic Impact of Commercial Space Transportation on the U.S. Economy,” U.S. economic activity in 1999 linked to the commercial space industry totaled over $61.3 billion. Industries enabled by commercial space transportation are not limited to launch vehicle and satellite manufacturing. They include associated consumer services such services as telecommunications, mobile data, direct-to-home television, remote sensing and related processing, as well as distribution industries. Accordingly, the interested public is not limited to launch services providers and their immediate customers but may include all persons who utilize satellite services, directly and indirectly. Through the on-line public forum, the FAA invites participation of all sectors of the interested public, including consumers.

At the public meeting and in the on-line public forum, the FAA will solicit public comments and on-line discussion on the following issues, and welcomes other related ideas and information from the public. When responding to questions posed and providing views and information, please provide specific and detailed responses along with supporting rationale (quantitative and qualitative) for your answers.

1. Could the U.S. commercial space transportation industry compete effectively against non-U.S. launch providers without the existing liability risk-sharing regime?

2. Are the liability risk-sharing regimes of other space-faring countries relevant to the competitiveness of the U.S. space transportation industry? Are there specific elements of particular foreign regimes that you believe provide advantages or benefits to entities that fall under those regimes?

3. Does holding a launch operator strictly liable for the damage or injury that results from its launch hinder the commercialization of space launch capability?

4. By treaty, the U.S. Government accepts absolute liability for damage on the ground or to aircraft in flight outside of the United States when a launch takes place from U.S. territory or facilities. Given the Government's obligations in this regard, does the existing liability risk-sharing regime provide adequate coverage and financial protection for the commercial space transportation industry as well as the Government?

5. U.S. and foreign air carriers operating in the United States are required to maintain insurance coverage in certain minimum amounts covering liability to passengers and persons and property on the ground. For aircraft with more than 60 seats or more than 18,000 pounds of capacity, carriers must maintain third-party accident liability coverage in the minimum amount of $300,000 for any one person other than a passenger and a total of $20 million per involved aircraft for each occurrence. There is no government indemnification in the event claims exceed that amount, nor does the U.S. Government accept treaty-based liability in the event of such damage. At what stage of development and under what circumstances should the airline liability regime become a model for commercial reusable launch vehicles (RLVs) that will routinely take-off and land?

6. The Federal Government's current indemnification policy does not cover risks associated with commercial spaceport operations that do not involve launch vehicles. Do commercial spaceports require a liability risk-sharing regime comparable to that utilized for licensed launches and reentries, even when there is no vehicle-related activity taking place at the spaceport?

7. What factors should the U.S. Congress consider in determining whether to continue as-is, or modify, existing laws in terms of liability risk-sharing for commercial space launch and reentry activities?

8. What suggestions do you have for modifying the existing liability risk-sharing laws applicable to commercial launch and reentry activities?

The public can join the on-line public forum by clicking the “On-Line Public Forum” hyperlink on the AST Internet home page, http://ast.faa.gov. The docket and the on-line public forum will close on May 11, 2001, so that the FAA can evaluate responses from the public to these questions and incorporate them in the further development of the report. However, the FAA will continue to welcome public views and information on issues associated with liability risk-sharing provisions for commercial space transportation under current law.

Persons wishing to present a prepared statement at the public meeting should reserve time for doing so by contacting AST directing at (202) 267-7793.

Issued in Washington, DC, on April 5, 2001.
Patricia Grace Smith,
Associate Administrator for Commercial Space Transportation.

[FR Doc. 01-8916 Filed 4-6-01; 1:24 pm]

BILLING CODE 4910-13-P